DEPARTMENT OF COMMERCE

International Trade Administration

Application(s) for Duty-Free Entry of Scientific Instruments

Pursuant to Section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 20, 2012. Address written comments to Statutory Import Programs Staff, Room 3720, U.S. Department of Commerce, Washington, DC 20230. Applications may be examined between 8:30 a.m. and 5:00 p.m. at the U.S. Department of Commerce in Room 3720.

Docket Number: 12-038. Applicant: Ohio University, 166 Stocker Center, Athens, OH 45701. Instrument: Electron Microscope. Manufacturer: JEOL Ltd., Japan. Intended Use: The instrument will be used to study materials such as catalysts and polymers in the nanoscale range, towards applications in energy and environmental technologies. The instrument's high resolution and scanning mode will enable the investigation of the chemical structure, morphology and elemental distribution in different catalyst formulations. Justification for Duty-Free Entry: There are no instruments of the same general category manufactured in the United States. Application accepted by Commissioner of Customs: September 26, 2012.

Docket Number: 12-040. Applicant: University of North Carolina Wilmington, 601 South College Rd., Wilmington, NC 28403-5915. Instrument: Electron Microscope. Manufacturer: FEI Company, Czech Republic. Intended Use: The instrument will be used to examine the ultrastructure of biological materials including isolated molecules such as DNA, virus particles, bacteria, isolated cells and complex tissues (epithelia, nervous tissue, muscle tissue and connective tissue). The magnification and resolutions of the instrument coupled with the montage creation feature make it possible to examine cellular and sub-cellular features over a wide field of view, thereby allowing more global analyses than previously possible. Justification for Duty-Free Entry: There are no instruments of the same general category manufactured in the United States. Application accepted by Commissioner of Customs: September 21, 2012.

Docket Number: 12-041. Applicant: Institute for Imaging & Analytical Technologies, Mississippi State University, Clay Lyle Entomology Building, 100 Twelve Lane, Mississippi State, MS 39762. Instrument: Electron Microscope. Manufacturer: JEOL Ltd., Japan. Intended Use: The instrument will be used to study the crystal structure, defect characteristics, and elemental distribution/segregation of single crystals, interfacial voids, polymers, and composites. The instrument will also be used for the characterization of nanoparticles produced by wood, insect sensory receptors, and nanoscale interactions between the internal fauna of beetles, and the translocation of copper in Cu-tolerant fungus. Justification for Duty-Free Entry: There are no instruments of the same general category manufactured in the United States. Application accepted by Commissioner of Customs: September 21, 2012.

Docket Number: 12-042. Applicant: Kansas State University College of Veterinary Medicine, K206 Mosier Hall 1800 Denison Ave., Manhattan, KS 66506. Instrument: Electron Microscope. Manufacturer: FEI, Czech Republic. Intended Use: The instrument will be used to study mammalian cell cultures, and the toxic effects of exposure to nanoparticles of different compositions, size, shape and surface coatings. The interactions of these nanoparticles with the body will be investigated, via routes of entry such as topical, perioral, intravenous, inhalation, intramuscular or subcutaneous. Justification for Duty-Free Entry: There are no instruments of the same general category manufactured in the United States. Application accepted by Commissioner of Customs: September 26, 2012.

Docket Number: 12-043. Applicant: Cleveland Clinic Foundation, 2111 East 96th St., Cleveland, OH 44106. Instrument: Electron Microscope. Manufacturer: FEI, Czech Republic. Intended Use: The instrument will be used to characterize differences between healthy and diseased tissues by studying the composition of their ultrastructure. Justification for Duty-Free Entry: There are no instruments of the same general category manufactured in the United States. Application accepted by Commissioner of Customs: October 2, 2012.

Docket Number: 12-044. Applicant: University of Colorado, 347 UCB Boulder, CO 80309. Instrument: Electron Microscope. Manufacturer: FEI, Czech Republic. Intended Use: The instrument will be used to examine the consequences of mutations, experimental manipulations or disease states of cells and tissues in various organisms. It will also be used to locate specific proteins within the samples. Justification for Duty-Free Entry: There are no instruments of the same general category manufactured in the United States. Application accepted by Commissioner of Customs: October 9, 2012.

Docket Number: 12-045. Applicant: Walter Reed Army Institute of Research, 2460 Linden Lane Bldg #503, Silver Spring, MD 20910. Instrument: Electron Microscope. Manufacturer: JEOL Ltd., Japan. Intended Use: The instrument will be used to observe ultrastructural evidence of infectious agents or to observe the ultrastructural pathology or cellular changes caused by infectious agents or therapeutic agents directed toward a certain cell type or cellular organelle. The objectives include observing how a certain microbe interacts with a cell, certain cellular population(s), or subcellular component; or to further provide ultrastructural classification of an organism. Justification for Duty-Free Entry: There are no instruments of the same general category manufactured in the United States. Application accepted by Commissioner of Customs: October 12, 2012.

Docket Number: 12-046. Applicant: Battelle Memorial Institute, 790 6th St, Richland, WA 99354. Instrument: Electron Microscope. Manufacturer: FEI, Czech Republic. Intended Use: The instrument will be used to study the structure and chemistry of inorganic materials such as catalysts, semiconductors, and battery materials, to understand the structure-property or structure-activity of the materials and to provide a feedback loop between synthesis and characterization. Justification for Duty-Free Entry: There are no instruments of the same general category manufactured in the United States. Application accepted by Commissioner of Customs: October 12, 2012.

Dated: October 25, 2012.
Gregory W. Campbell
Director of Subsidies Enforcement, Import Administration.

[FR Doc. 2012-26798 Filed 10-30-12; 8:45 am]

BILLING CODE 3510-DS-P